ENVIRONMENTAL PROTECTION AGENCY

[FRL-7400-2]

Proposed Settlement Agreement

AGENCY: Environmental Protection Agency (EPA).

ACTION: Notice of proposed settlement agreement; request for public comment.

SUMMARY: In accordance with section 113(g) of the Clean Air Act, as amended, 42 U.S.C. 7413(g), notice is hereby given of a proposed settlement agreement in Weyerhaeuser Company v. Whitman, et al., No. 01-1122 (DC Circuit). This case concerns the final rule entitled “National Emission Standards for Hazardous Air Pollutants for Chemical Recovery Combustion Sources at Kraft, Soda, Sulfite, and Stand-Alone Semichemical Pulp Mills,” published at 66 FR 3179 on January, 12, 2001.

DATES: Written comments on the proposed settlement agreement must be received by November 29, 2002.

ADDRESSES: Written comments should be sent to Steven Silverman, Air and Radiation Law Office (2366A), Office of General Counsel, U.S. Environmental Protection Agency, 1200 Pennsylvania Avenue, NW., Washington, DC 20460. A copy of the proposed settlement agreement is available from Phyllis J. Cochran, (202) 564-7606.

SUPPLEMENTARY INFORMATION: EPA has promulgated a number of National Emission Standards for Hazardous Air Pollutants (NESHAP) for the pulp and paper source category. This notice concerns the NESHAP for the chemical recovery combustion processes, whereby spent pulping liquors (so-called black liquor) are thermally regenerated for reuse in the pulping process. See 66 FR 3179 (January 12, 2001) (promulgating a new subpart MM to Part 63). The Weyerhaeuser Company filed a timely petition for review of portions of the rule dealing with emission standards for the sulfite process subcategory. Weyerhaeuser Company v. Whitman, et al., No. 01-1122 (DC Circuit).

Weyerhaeuser and EPA have now reached initial agreement on a settlement of the case which could lead to the voluntary dismissal of the petition for review. The settlement requires EPA to sign a proposed rule and/or a notice of direct final rulemaking no later than December 1, 2002, incorporating certain amendments, and to take final action concerning these amendments no later than June 1, 2003.

Under the settlement, EPA would propose (or issue a direct final rule subject to withdrawal in the event of significant adverse comment) revised standards applicable to a single sulfite process pulping mill located in Cosmopolis, Washington. This mill contains an apparently unique source involved in black liquor recovery (a so-called hog fuel dryer) which is not regulated under any of the Pulp and Paper NESHAPs, nor under any other NESHAP. The initial settlement would amend the rule to allow this mill to demonstrate compliance by controlling this emission source rather than controlling sources otherwise regulated under the rule. The company has submitted information to EPA (available in the docket to the rule) demonstrating persuasively that the projected level of control would remove more hazardous air pollutants of the same type (i.e. metal hazardous air pollutants, for which particulate matter is a surrogate) than would be controlled under the existing rule. The company also believes that it is more economical to control the hog fuel dryer than other emission points regulated under the existing rule. The initial settlement would not otherwise affect any of the standards in the promulgated rule, and would not alter that rule's compliance date (which would remain January 12, 2004).

EPA believes that the compliance alternative contemplated in the initial settlement offers additional compliance flexibility and should result in greater emission control of hazardous air pollutants than the existing rule. The Agency thus believes that this is a reasonable settlement.

For a period of thirty (30) days following the date of publication of this notice, EPA will receive written comments relating to the proposed settlement agreement. EPA or the Department of Justice may withdraw or withhold consent to the proposed settlement agreement if the comments disclose facts or considerations that indicate that such consent is inappropriate, improper, inadequate, or inconsistent with the requirements of the Act. Unless EPA or the Department of Justice determine, based on any comment which may be submitted, that consent to the settlement agreement should be withdrawn, the terms of the agreement will be affirmed.

Dated: October 22, 2002.
Richard B. Ossias,
Acting Associate General Counsel, Air and Radiation Law Office.

[FR Doc. 02-27344 Filed 10-28-02; 8:45 am]

BILLING CODE 6560-50-P